DEPARTMENT OF COMMERCE

National Oceanic and Atmospheric Administration

50 CFR Part 679

[Docket No. 991228352-0012-02; I.D. 011100D]

RIN 0648-AM83

Fisheries of the Exclusive Economic Zone Off Alaska; Emergency Interim Rule To Implement Major Provisions of the American Fisheries Act; Correction

AGENCY: National Marine Fisheries Service (NMFS), National Oceanic and Atmospheric Administration (NOAA), Commerce.

ACTION: Emergency interim rule; revisions to 2000 harvest specifications; sideboard directed fishing closures; correction.

SUMMARY: This document corrects the emergency interim rule, which implements major provisions of the American Fisheries Act (AFA) and revises interim 2000 harvest specifications and sideboard directed fishing closures. This correction is being made to clarify that AFA crab processing sideboard limits do not apply to the processing of Community Development Quota (CDQ) crab.

DATES: Effective January 21, 2000 through July 20, 2000.

FOR FURTHER INFORMATION CONTACT: Kent Lind, 907-586-7228.

SUPPLEMENTARY INFORMATION:

Need for Correction

The emergency interim rule that implemented major provisions of the American Fisheries Act (65 FR 4520, January 28, 2000) established AFA inshore processor and AFA mothership crab processing sideboard limits at § 679.64. NMFS did not intend for these crab processing sideboard limits to be applicable to the processing of CDQ crab. The AFA contains language that would cap crab processing in the directed crab fisheries, under the authority of the North Pacific Fishery Management Council, but does not contain language as to whether CDQ crab is part of the directed crab fisheries. To include the CDQ crab counts toward the cap would be highly disruptive to this entity because the CDQ crab fishery is not a directed fishery and comes after the open access crab fisheries. Therefore, NMFS has made a policy judgement to exclude CDQ crab from the processing caps and is correcting the AFA emergency rule by incorporating its interpretation of this policy in the emergency rule.

Correction

In the emergency interim rule To Implement Major Provisions of the American Fisheries Act, published in the Federal Register on January 28, 2000 (65 FR 4520), the following corrections are made in the regulatory text.

1. On page 4544, in § 679.64, paragraphs (a) and (b), the first sentence of paragraph (d), and paragraph (e) are corrected to read as follows:

§ 679.64 AFA inshore processor and AFA mothership crab processing sideboard limits.

(a) Applicability. The crab processing limits in this section apply to non-CDQ crab processed by any AFA inshore or mothership entity that receives pollock harvested in the BSAI directed pollock fishery by a fishery cooperative established under § 679.60 or § 679.61.

(b) Calculation of crab processing sideboard limits. Upon receipt of an application for a cooperative processing endorsement from the owners of an AFA mothership or AFA inshore processor, the Regional Administrator will calculate a crab processing cap percentage for the associated AFA inshore or mothership entity. The crab processing cap percentage for each BSAI king or Tanner crab species will be equal to the percentage of the non-CDQ total catch of each BSAI king or Tanner crab species that the AFA crab facilities associated with the AFA inshore or mothership entity processed in the aggregate, on average, in 1995, 1996, and 1997.

* * * * *

(d) Conversion of crab processing sideboard percentages and notification of crab processing sideboard poundage caps. Prior to the start of each BSAI king or Tanner crab fishery, NMFS will convert each AFA inshore or mothership entity's crab processing sideboard percentage to a poundage cap by multiplying the crab processing sideboard percentage by the non-CDQ (open access) pre-season guideline harvest level (GHL) established for that crab fishery by ADF&G. * * *

(e) Overages. In the event that the actual harvest of a BSAI crab species during a non-CDQ crab fishery exceeds the non-CDQ pre-season GHL announced for that species, an AFA inshore or mothership entity may exceed its crab processing cap without penalty up to an amount equal to the AFA inshore or mothership entity's crab processing percentage multiplied by the final official harvest amount of that crab species as determined by the ADF&G and announced by NMFS on the NMFS-Alaska Region world wide web home page (http://www.fakr.noaa.gov).

Dated: March 16, 2000.
Penelope D. Dalton,
Assistant Administrator for Fisheries, National Marine Fisheries Service.

[FR Doc. 00-7219 Filed 3-22-00; 8:45 am]

BILLING CODE 3510-22-F